DEPARTMENT OF VETERANS AFFAIRS

38 CFR Part 1

RIN 2900-AK56

U.S. Flags for Burials of Certain Members of the Selected Reserve

AGENCY: Department of Veterans Affairs.

ACTION: Final rule.

SUMMARY: This document amends Department of Veterans Affairs (VA) adjudication regulations to reflect changes made by The Strom Thurmond National Defense Authorization Act of Fiscal Year 1999. These changes concern issuance of United States flags for burials of certain members of the Selected Reserve.

DATES: Effective Dates: The amendment is effective October 17, 1998.

FOR FURTHER INFORMATION CONTACT: Diane Fuller, Assistant Director, Compensation and Pension Service (216), Veterans Benefits Administration, 810 Vermont Avenue, NW., Washington, DC 20420, telephone (202) 273-7210.

SUPPLEMENTARY INFORMATION: On October 17, 1998, the President signed into law the Strom Thurmond National Defense Authorization Act of Fiscal Year 1999, Public Law 105-261 (the Act). One provision of the Act directly affects issuance of United States flags for burial purposes by the Department of Veterans Affairs. The provision requires VA to issue United States flags for burials of certain members of the Selective Reserve, when VA receives a claim for such a flag.

This regulatory amendment reflects that provision by stating that VA will provide a burial flag, upon receipt of a claim, upon the death of any deceased member or former member of the Selected Reserve (as described in section 10143 of title 10) who is not otherwise eligible for a flag under this section or section 1482(a) of title 10 and (1) who completed at least one enlistment as a member of the Selected Reserve or, in the case of an officer, completed the period of initial obligated service as a member of the Selected Reserve; or (2) who was discharged before completion of the person's initial enlistment as a member of the Selected Reserve or, in the case of an officer, period of initial obligated service as a member of the Selected Reserve, for a disability incurred or aggravated in the line of duty; or (3) who died while a member of the Selected Reserve.

(Authority: 38 U.S.C. 2301(a)(1))

Changes made by this final rule merely reflect the statutory requirements in Pub. L. 105-261. Accordingly, there is a basis for dispensing with prior notice and comment and delayed effective date provisions of 5 U.S.C. 552 and 553.

The Secretary hereby certifies that this regulatory amendment will not have a significant economic impact on a substantial number of small entities as they are defined in the Regulatory Flexibility Act (RFA), 5 U.S.C. 601-612. These amendments would not directly affect any small entities. Only VA beneficiaries could be directly affected. Therefore, pursuant to 5 U.S.C. 605(b), these amendments are exempt from the initial and final regulatory flexibility analysis requirements of sections 603 and 604.

The Catalog of Federal Domestic Assistance program number is 64.101.

List of Subjects in 38 CFR Part 1

Administrative practice and procedure, Archives and records, Cemeteries, Claims, Courts, Flags, Freedom of information, Government contracts, Government employees, Government property, Infants and children, Inventions and patents, Investigations, Parking, Penalties, Postal Service, Privacy, Reporting and recordkeeping requirements, Seals and insignia, Security measures, and Wages.

Approved: May 3, 2001.
Anthony J. Principi,
Secretary of Veterans Affairs.

For the reasons set forth in the preamble, 38 CFR part 1 is amended as follows:

PART 1—GENERAL PROVISIONS

1. The authority citation for part 1 continues to read as follows:

Authority: 38 U.S.C. 501(a), unless otherwise noted.

2. Section 1.10 is amended by adding paragraph (a)(1)(v) immediately following the authority citation at the end of paragraph (a)(1)(iv) to read as follows:

§ 1.10 Eligibility for and disposition of the United States flag for burial purposes.

(a) * * *

(1) * * *

(v) Any deceased member or former member of the Selected Reserve (as described in section 10143 of title 10) who is not otherwise eligible for a flag under this section or section 1482(a) of title 10 and who:

(A) Completed at least one enlistment as a member of the Selected Reserve or, in the case of an officer, completed the period of initial obligated service as a member of the Selected Reserve;

(B) Was discharged before completion of the person's initial enlistment as a member of the Selected Reserve or, in the case of an officer, period of initial obligated service as a member of the Selected Reserve, for a disability incurred or aggravated in the line of duty; or

(C) Died while a member of the Selected Reserve.

(Authority: 38 U.S.C. 2301(f)(1))

[FR Doc. 01-12525 Filed 5-17-01; 8:45 am]

BILLING CODE 8320-01-P